DEPARTMENT OF THE INTERIOR

Fish and Wildlife Service

Draft Management and Control Plan for Asian Carps in the United States

AGENCY: Fish and Wildlife Service, Interior.

ACTION: Notice of document availability and request for comments.

SUMMARY: This notice announces the availability of the draft “Management and Control Plan for Asian Carps in the United States.” This draft document was prepared by the Asian Carp Working Group of the Aquatic Nuisance Species Task Force. We are seeking public comments on this draft document. Comments received will be considered during the preparation of the final national management and control plan, which will guide cooperative and integrated management of Asian carps in the United States.

DATES: Submit your comments on the draft “Management and Control Plan for Asian Carps in the United States” by December 26, 2006.

ADDRESSES: The draft document is available from the Executive Secretary, Aquatic Nuisance Species Task Force, U.S. Fish and Wildlife Service, 4401 North Fairfax Drive, Arlington, VA 22203; FAX (703) 358-1800. It also is available on our webpage at http://www.anstaskforce.gov/. Comments may be hand-delivered, mailed, or sent by fax to the address listed above. You may send comments by e-mail to: AsianCarpPlan@fws.gov.

FOR FURTHER INFORMATION CONTACT: Scott Newsham, Executive Secretary, Aquatic Nuisance Species Task Force, at scott_newsham@fws.gov or (703) 358-1796.

SUPPLEMENTARY INFORMATION: There are many carps native to Asia, including seven that have been introduced to the United States. For the purposes of this document the term “Asian carps” refers to four species: black carp (Mylopharyngodon piceus), bighead carp (Hypophthalmichthys nobilis), grass carp (Ctenopharyngodon idella), and silver carp (H. molitrix). Feral bighead, grass, and silver carps have all established reproducing populations in several major rivers of the United States. To date, there have been six confirmed collections of adult black carp by commercial fishers in the United States and unconfirmed reports of repeated captures of adult black carp in the Mississippi River and its tributaries over the past 13 years. There have been no collections of black carp eggs and larvae or observations of spawning.

The Aquatic Nuisance Species Task Force, which is authorized by the Nonindigenous Aquatic Nuisance Prevention and Control Act of 1990 (16 U.S.C. 4701 et seq.), and the U.S. Fish and Wildlife Service organized an Asian Carp Working Group (Working Group) to develop a comprehensive national Asian carp management and control plan. The Working Group agreed that the desired endpoint of the plan is the extirpation of Asian carps in the wild, except for non-reproducing grass carp within planned locations [i.e., areas where nuisance aquatic vegetation can be controlled using planned introductions of sterile (triploid) fish contained within a designated area]. The Working Group was charged with developing a plan that first and foremost protects our Nation's natural resources. The Working Group was also charged with developing solutions that would allow for a viable aquaculture industry when implemented. Therefore, a framework for the responsible use of domestic stocks of Asian carp is described throughout the plan. It is in this context that the Working Group developed strategies and recommendations that address seven goals to protect the Nation's natural resources. This collaborative process was highly successful and nearly all issues were resolved. The Working Group developed 46 strategies and 129 recommendations to manage and control Asian carps (see Table I, page viii, of the draft plan). However, two issues were not resolved within the Working Group. In-depth discussions for these two issues are presented in Recommendation 3.1.15.10 (page 50), “Use of triploid black carp on aquaculture facilities,” and Recommendation 3.1.18.1 (page 59), “Commercial, domestic transport of live farm-raised bighead and grass carps,” in the draft plan. The discussion presented for each of these two issues includes a series of management questions that remain to be resolved before strategies and recommendations can be formulated to effectively address these unresolved issues.

Risk levels for potential pathways of introduction were proposed based on both the likelihood for an introduction to occur and the potential for adverse ecological and/or economic effects (see Table 3.1.1, page 30, of the draft plan). However, the Working Group did not agree on the use of pathway risk levels or the majority of the proposed risk levels. To effectively implement the plan, the Working Group recommends (see Recommendation 3.7.1.3, page 111, in the draft plan) additional efforts to integrate, sequence, and prioritize recommendations from among all sections of this plan.

We are seeking public comments on the two unresolved issues mentioned above, as well as all aspects of the draft plan. Submit your comments by the date listed under DATES using one of the methods listed under ADDRESSES.

Authority: The authority for this action is the Nonindigenous Aquatic Nuisance Prevention and Control Act of 1990 (16 U.S.C. 4701 et seq.).

Dated: September 25, 2006.
Everett Wilson,
Acting Co-Chair, Aquatic Nuisance Species Task Force, Acting Assistant Director—Fisheries & Habitat Conservation.

[FR Doc. E6-17794 Filed 10-23-06; 8:45 am]

BILLING CODE 4310-55-P